FEDERAL COMMUNICATIONS COMMISSION

Notice of Public Information Collection(s) Being Submitted to OMB for Review and Approval

May 15, 2001.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before June 29, 2001. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number:

3060-0570.

Title: Section 76.982, Continuation of Rate Agreements.

Form Number: N/A.

Type of Review: Extension of a currently approved collection.

Respondents: State, local, or tribal governments.

Number of Respondents: 25.

Estimated Time per Response: 0.5 hours.

Frequency of Response: One-time reporting requirement.

Total Annual Burden: 13 hours.

Total Annual Costs: None.

Needs and Uses: Franchise authorities that were regulating basic cable rates pursuant to a rate agreement executed before July 1, 1990, may continue to regulate rates during the remainder of the agreement. Franchise authorities must notify the FCC of their intentions to continue regulating rates under the rate agreement.

OMB Control Number: 3060-0562.

Title: Section 76.916, Petition for Recertification.

Form Number: N/A.

Type of Review: Extension of a currently approved collection.

Respondents: Businesses or other for-profit entities; and State, local, or tribal governments.

Number of Respondents: 10.

Estimated Time per Response: 10 hours.

Frequency of Response: On occasion reporting requirement; Third party disclosure.

Total Annual Burden: 100 hours.

Total Annual Costs: None.

Needs and Uses: A franchising authority wishing to assume jurisdiction to regulate basic cable service and associated equipment rates after its request for certification has been denied or revoked, may file a petition for recertification with the FCC. The petition must be served on the cable operator and on any interested party that participated in the proceeding denying or revoking the original certification.

OMB Control Number: 3060-0609.

Title: Section 76.934(e), Petitions for Extension of Time.

Form Number: N/A.

Type of Review: Extension of a currently approved collection.

Respondents: Businesses or other for-profit entities; and State, local, or tribal governments.

Number of Respondents: 35.

Estimated Time per Response: 4 hours.

Frequency of Response: On occasion reporting requirement; Third party disclosure.

Total Annual Burden: 140 hours.

Total Annual Costs: None.

Needs and Uses: Small cable systems may obtain an extension of time to establish compliance regulations provided that they can demonstrate that timely compliance would result in economic hardship. Requests for extension of time are addressed to local franchising authorities concerning rates for basic service tiers and to the FCC concerning rates for cable programming service tiers.

OMB Control Number: 3060-0610.

Title: Section 76.1606, Rate Change While Complaint Pending.

Form Number: N/A.

Type of Review: Extension of a currently approved collection.

Respondents: Businesses or other for-profit entities.

Number of Respondents: 400.

Estimated Time per Response: 0.5 hours.

Frequency of Response: On occasion reporting requirement; Third party disclosure.

Total Annual Burden: 200 hours.

Total Annual Costs: None.

Needs and Uses: A cable operator that proposes to change any rate while a cable service tier rate complaint is pending before the FCC shall provide the Commission at least 30 days notice of the proposed rate change to allow the Commission time to review any pending rate complaints.

Federal Communications Commission.
Magalie Roman Salas,
Secretary.

[FR Doc. 01-13455 Filed 5-29-01; 8:45 am]

BILLING CODE 6712-01-P